NUCLEAR REGULATORY COMMISSION

[Docket No. 03020982; NRC-2019-0089]

In the Matter of Prime NDT Services, Inc.

AGENCY: Nuclear Regulatory Commission.

ACTION: Confirmatory order; issuance.

SUMMARY: The U.S. Nuclear Regulatory Commission (NRC) is issuing a Confirmatory Order to Prime NDT Services, Inc. (Prime NDT) to memorialize the agreement reached during an alternative dispute resolution mediation session held on January 10, 2019, with additional communication on January 23, 2019, and January 29, 2019, and March 12-14, 2019. This Order will resolve any issues identified during a reactive NRC inspection that evaluated the circumstances of the September 1, 2018, theft of a vehicle that Prime NDT was using to transport a radiography camera in Ripley, West Virginia. The vehicle and camera were recovered about three hours later, and there was no actual impact to public health and safety. However, as documented in the subject inspection report, the NRC identified one or more apparent violations associated with the event. Because the apparent violation(s) pertain to security-related information, the number and details are not publicly-available. The Confirmatory Order is effective upon issuance.

DATES: April 8, 2019.

ADDRESSES: Please refer to Docket ID NRC-2019-0089 when contacting the NRC about the availability of information regarding this document. You may obtain publicly-available information related to this document using any of the following methods:

• Federal Rulemaking Website: Go to http://www.regulations.gov and search for Docket ID NRC-2019-0089. Address questions about NRC dockets IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Marjorie M. McLaughlin, Region I, U.S. Nuclear Regulatory Commission, 2100 Renaissance Blvd., King of Prussia, PA 19140; telephone: 610-337-5240, email: Marjorie.Mclaughlin@nrc.gov.

SUPPLEMENTARY INFORMATION: The text of the Order is attached.

Dated at Rockville, Maryland, this 3rd day of April 2019.
For the Nuclear Regulatory Commission.
Raymond K. Lorson,
Deputy Regional Administrator, NRC Region I.

ATTACHMENT—CONFIRMATORY ORDER MODIFYING LICENSE.

In the Matter of Prime NDT Services, Inc.

[Docket No. 03020982; License No. 37-23370-01; EA-18-131]

(EFFECTIVE UPON ISSUANCE)

I

Prime NDT Services, Inc. (Prime NDT) is the holder of byproduct materials License No. 37-23370-01 issued by the U.S. Nuclear Regulatory Commission (NRC or Commission) pursuant to Part 30 of Title 10 of the Code of Federal Regulations (10 CFR), “Rules of General Applicability to Domestic Licensing of Byproduct Material.” The license authorizes the use of byproduct materials by Prime NDT, in accordance with conditions specified therein. Prime NDT has corporate offices in Schnecksville, Pennsylvania and Strasburg, Ohio, but is authorized to conduct licensed activities at temporary jobsites at locations in the United States that are under NRC jurisdiction.

This Confirmatory Order is the result of an agreement reached during an Alternative Dispute Resolution (ADR) mediation session conducted on January 10, 2019, and additional communication on January 23, 2019, January 29, 2019, and March 12-14, 2019.

II

On November 15, 2018, the NRC issued Inspection Report No. 03020982/2018002 to Prime NDT. The report documented the results of a reactive inspection conducted in response to an event reported by Prime NDT on September 1, 2018, involving the theft of a company vehicle that was transporting a radiography source in Ripley, West Virginia (ref. Event Notification No. 53577). The truck and the source were recovered approximately three hours later, and there was no actual impact to public health and safety from the event. However, in the inspection report, the NRC documented one or more apparent violations of security requirements identified by the NRC as being considered for escalated enforcement action in accordance with the NRC Enforcement Policy.

By letter dated November 15, 2018, the NRC notified Prime NDT of the results of the inspection with an opportunity to: (1) provide a response in writing; (2) attend a pre-decisional enforcement conference; or (3) participate in an ADR mediation session in an effort to resolve these concerns.

In response to the NRC's offer, Prime NDT requested the use of the NRC's ADR process. On January 10, 2019, the NRC and Prime NDT met in an ADR session mediated by a professional mediator, arranged through Cornell University's Institute on Conflict Resolution. The ADR process is one in which a neutral mediator, with no decision-making authority, assists the parties in reaching an agreement on resolving any differences regarding the dispute. This Confirmatory Order is issued pursuant to the agreement reached during the ADR process.

III

During the ADR session, Prime NDT and the NRC reached a preliminary settlement agreement. The elements of the agreement include the following:

A. Items to Prevent Reoccurrence:

1. Within 180 days of the date of the Confirmatory Order, Prime NDT will install a tracking system in each of its trucks (both owned and rented) used to transport radioactive material. The tracking system will enable live-time identification of the truck or source location by designated Prime NDT management.

a. Within 180 days of the date of the Confirmatory Order, Prime NDT will develop and implement a procedure regarding the tracking program described in A.1. The procedure will require daily verification that the tracking system is installed and functioning properly for any day on which the truck is being used or is otherwise in service, and will require that the functionality check is documented in a log. The functionality logs will be retained by Prime NDT for two years for review by the NRC during an inspection.

b. Within 30 days of completing installation of the tracking system, Prime NDT will notify the NRC by sending a letter to the NRC Region I Administrator.

2. Within 90 days of the date of the Confirmatory Order, Prime NDT will ensure that a review of its radiation safety program is performed by an industry peer. Within 30 days of completing the review, Prime NDT will submit to the NRC Region I Administrator a written summary of the results of the review and identify any improvements/ enhancements that will be implemented as a result, including a schedule for implementation. For any improvements/enhancements that will not be implemented, Prime NDT will describe the reason why.

3. Within 90 days of the date of the Confirmatory Order, Prime NDT will ensure that a review of its radioactive materials security program is performed by an outside entity knowledgeable in transportation security. Within 30 days of the review, Prime NDT will submit to the NRC Region I Administrator a written summary of the results of the review and identify any improvements/ enhancements that will be implemented as a result, including a schedule for implementation. For any improvements/enhancements that will not be implemented, Prime NDT will describe the reason why.

4. Within 30 days of completing implementation of any enhancements per Items A.2 and A.3, Prime NDT will submit a written statement to the NRC Region I Administrator, informing the NRC that the enhancement is in place.

B. Items to Enhance Management Oversight:

1. Within 60 days of the date of the Confirmatory Order, Prime NDT will implement a revised auditing program that will ensure:

a. Each radiographer is audited once per every 60 days for the following year (365 days), and every 90 days thereafter;

b. Each newly-hired radiographer who has not worked for Prime NDT within the prior six months is audited within two weeks of being hired, and then once per every 60 days for the following year (365 days), and every 90 days thereafter; and

c. Each radiography team with a known personal relationship (i.e., siblings, spouses, or parent/child) is audited every 45 days.

2. The auditing program described in Item B.1 will include an unannounced observation by a Prime NDT supervisor in accordance with Prime NDT auditing procedures.

3. Prime NDT will document the results of each audit and retain the records for two years for review by the NRC during an inspection.

C. Items to Address Initial and Continuing Training:

1. Within 90 days of the date of the Confirmatory Order, Prime NDT will develop a training module related to radioactive material transportation and security to be provided by Prime NDT to all new hires. The training will include discussion of the performance issues that resulted in this event, the actions taken by Prime NDT to both address the performance issues and to enhance oversight and security of licensed material in transit, and the content of the Confirmatory Order. The training will also include a performance test on proper security controls for radioactive material.

a. Prime NDT will retain copies of the training materials and trainee signatures for two years, and make those materials available to the NRC for review during an inspection.

2. Within 180 days of the date of the Confirmatory Order, Prime NDT will develop for the Operating Engineers Local 112 Union a proposed training module to include topics related to radioactive material transportation and security.

a. Within 30 days of developing the summary, Prime NDT will submit a copy to the NRC Region I Administrator for NRC review.

b. Within 30 days of receiving communication that the NRC review is complete, Prime NDT will submit the proposed training to the union for consideration to be provided by the union to all members.

D. Items to Address External Communication:

1. Within 120 days of the date of the Confirmatory Order, Prime NDT will develop a summary of this issue. The summary will include discussion of the performance issues that resulted in the event, the actions taken by Prime NDT to address the performance issues and to enhance oversight and security of licensed material in transit, and the content of the Confirmatory Order.

a. Within 30 days of developing the summary, Prime NDT will submit a copy to the NRC Region I Administrator for NRC review and comment.

b. Within 30 days of receiving communication that the NRC review is complete, Prime NDT will submit the summary as an operating experience article to:

i. the American Society for Nondestructive Testing (ASNT) for consideration for publication in the ASNT's quarterly newsletter, “The NDT Technician;” and

ii. the Conference of Radiation Control Program Directors (CRCPD), the Organization of Agreement States (OAS) and the Health Physics Society (HPS) for consideration for sharing to their member points of contact or publications in their newsletters (i.e., the CRCPD's “NEWSBRIEF,” and the HPS's “Health Physics News Digest”).

c. Within 30 days of submitting the summary, Prime NDT will inform the NRC that the action is complete by sending a letter to the NRC Region I Administrator.

2. Prime NDT will request to provide a presentation based on the summary described in Section D.3 at an ASNT meeting in the fall of 2019. Within 30 days of the meeting, Prime NDT will inform the NRC that the presentation has occurred by sending a letter to the Region I Administrator and will include a copy of the presentation materials (i.e., slides).

3. Within 360 days of the date of the Confirmatory Order, Prime NDT will offer to provide a presentation based on the summary described in Section D.1 to the Operating Engineers Local 112 Union. The presentation is intended to occur during an annual meeting or similar, widely-attended event. Prime NDT will inform the NRC that the action is complete by sending a letter to the Region I Administrator within 30 days of completing the presentation, and will include a copy of the presentation materials (i.e., slides) in the letter.

E. Items to Which the NRC has Agreed:

1. In consideration of the above actions, the NRC agreed to reduce the civil penalty relating to the notice of apparent violations (Case No. EA-18-131, Inspection Report No. 03020982/2018002), dated November 15, 2018, to $5,000.

2. The NRC agrees to describe the violations as being either escalated or non-escalated in the Confirmatory Order.

Subsequent to the January 10, 2019, mediation session and as arranged during mediation, on January 23, 2019, the NRC staff reviewed an estimate obtained by Prime NDT for implementing the action described in Section III.A.1. The NRC staff communicated to Prime NDT on January 29, 2019, that, in consideration of the additional cost of the action described in Section III.A and following through with the mediation discussion, the NRC initially agreed to fully mitigate the civil penalty described in Section III.E.1. However, at the request of new Prime NDT management and owners, through electronic mail communications on March 12-14, 2019, the NRC staff engaged in further negotiation regarding the commitments described as “Items to Enhance Management Oversight,” in Section III.B. As a result of these communications, Prime NDT and the NRC reached agreement on a revision to the commitments that resulted in NRC reinstating a civil penalty in the amount of $3,500 and reducing the number of Prime NDT audits of radiographers from the number identified in the preliminary settlement agreement. Prime NDT agreed to pay this amount within 30 days of the date of issuance of the Confirmatory Order.

On March 25, 2019, Prime NDT consented to issuing this Confirmatory Order with the commitments, as described in Section V below. These commitments include several changes from the preliminary settlement agreement to provide clarifications and corrections and to ensure the actions can be appropriately inspected by NRC staff. Prime NDT consented to the changes and further agreed that this Confirmatory Order is to be effective upon issuance, the agreement memorialized in this Confirmatory Order settles the matter between the parties, and that it has waived its right to a hearing.

IV

Because the licensee has agreed to take additional actions to address NRC concerns, as set forth in Section III above, the NRC has concluded that its concerns can be resolved through issuance of this Confirmatory Order.

I find that Prime NDT's commitments, as set forth in Section V, are acceptable and necessary, and conclude that with these commitments the public health and safety are reasonably assured. In view of the foregoing, I have determined that public health and safety require that Prime NDT's commitments be confirmed by this Confirmatory Order. Based on the above and Prime NDT's consent, this Confirmatory Order is effective upon issuance.

V

Accordingly, pursuant to Sections 81, 161b, 161i, 161o, 182 and 186 of the Atomic Energy Act of 1954, as amended, and the Commission's regulations in 10 CFR 2.202 and 10 CFR part 30, IT IS HEREBY ORDERED, EFFECTIVE UPON ISSUANCE, THAT LICENSE NO. 37-23370-01 IS MODIFIED AS FOLLOWS:

A. Items to Prevent Reoccurrence:

1. Within 180 days of the date of issuance of the Confirmatory Order, Prime NDT will install a tracking system in each of its trucks (both owned and rented) used to transport radioactive material. The tracking system will enable live-time identification of the truck location by designated Prime NDT management.

a. Within 180 days of the date of issuance of the Confirmatory Order, and before completing Item A.1, Prime NDT will develop and implement a procedure regarding the tracking program described in A.1. The procedure will require daily verification that the tracking system is installed and functioning properly for any day on which the truck is being used by Prime NDT, and will require that the functionality check is documented in a log. The functionality logs will be retained by Prime NDT for two years, and will be available for review by the NRC during inspections.

b. Within 30 days of completing installation of the tracking system, Prime NDT will notify the NRC by sending a letter to the NRC Region I Administrator.

2. Within 90 days of the date of issuance of the Confirmatory Order, Prime NDT will ensure that a review of its radiation safety program is performed by an industry peer. Within 30 days of completing the review, Prime NDT will submit to the NRC Region I Administrator a written summary of the results of the review and identify any improvements/enhancements identified by the peer and that will be implemented as a result of the peer review, including a schedule for implementation. For any improvements/enhancements identified by the industry peer that will not be implemented, Prime NDT will describe the reason why.

3. Within 90 days of the date of issuance of the Confirmatory Order, Prime NDT will ensure that a review of its radioactive materials security program is performed by an outside entity knowledgeable in transportation security. Within 30 days of completing the review, Prime NDT will submit to the NRC Region I Administrator a written summary of the results of the review and identify any improvements/enhancements identified by the outside entity that will be implemented as a result of the review, including a schedule for implementation. For any improvements/enhancements identified by the outside entity review that will not be implemented, Prime NDT will describe the reason why.

4. Within 30 days of completing implementation of any enhancements per Items A.2 and A.3, Prime NDT will submit a written statement to the NRC Region I Administrator informing the NRC that the enhancement is in place.

B. Items to Enhance Management Oversight:

1. Within 60 days of the date of issuance of the Confirmatory Order, Prime NDT will implement a revised job performance inspection (auditing) program that will ensure that for the subsequent year (i.e., for 365 days after implementing the revised program):

a. Each radiographer is audited at intervals not to exceed four months ;

b. Each newly-hired radiographer who has not worked for Prime NDT within the prior six months is audited within one month of being hired, and then at intervals not to exceed four months; and

c. After implementing the revised auditing program for 365 days, Prime NDT may return to conducting audits in accordance with the timeframe specified in 10 CFR 34.43(e).

2. The auditing program described in Item B.1 will include an unannounced observation by a Prime NDT supervisor in accordance with Prime NDT auditing procedures.

3. Prime NDT will document the results of each audit and retain the records for the timeframe as required by 10 CFR part 34 for review by the NRC during an inspection.

C. Items to Address Initial and Continuing Training:

1. Within 90 days of the date of issuance of the Confirmatory Order, Prime NDT will develop a training module related to radioactive material transportation and security to be provided by Prime NDT to all new radiographer hires. The training will include discussion of the performance issues that resulted in this event, the actions taken by Prime NDT to both address the performance issues and to enhance oversight and security of licensed material in transit, and the content of the Confirmatory Order. The training will also include a performance test on proper security controls for radioactive material.

a. Prime NDT will retain copies of the training materials and trainee signatures for two years, and make those materials available to the NRC for review during an inspection.

2. Within 180 days of the date of issuance of the Confirmatory Order, Prime NDT will develop for the Operating Engineers Local 112 Union a proposed training module to include topics related to radioactive material transportation and security.

a. Within 30 days of developing the training module, Prime NDT will submit a copy to the NRC Region I Administrator for NRC review.

b. Within 30 days of receiving communication that the NRC review is complete, Prime NDT will submit the proposed training to the union for consideration to be provided by the union to all members.

D. Items to Address External Communication:

1. Within 120 days of the date of issuance of the Confirmatory Order, Prime NDT will develop a summary of the circumstances that led to the issuance of the Order. The summary will include discussion of the performance issues that resulted in the event, the actions taken by Prime NDT address the performance issues and to enhance oversight and security of licensed material in transit, and the content of the Confirmatory Order.

a. Within 30 days of developing the summary, Prime NDT will submit a copy to the NRC Region I Administrator for NRC review and comment.

b. Within 30 days of receiving communication that the NRC review is complete, Prime NDT will submit the summary as an operating experience article to:

i. the ASNT for consideration for publication in the ASNT's quarterly newsletter, “The NDT Technician;” and

ii. the Conference of Radiation Control Program Directors (CRCPD), the Organization of Agreement States (OAS) and the Health Physics Society (HPS) for consideration for sharing to their member points of contact or publications in their newsletters (i.e., the CRCPD's “NEWSBRIEF,” and the HPS's “Health Physics News Digest”).

c. Within 30 days of submitting the summary to these organizations, Prime NDT will inform the NRC that the action is complete by sending a letter to the NRC Region I Administrator.

2. Prime NDT will request to provide a presentation based on the summary described in Section D.1 at an ASNT meeting in the fall of 2019. Within 30 days of the meeting, Prime NDT will inform the NRC whether the presentation occurred by sending a letter to the Region I Administrator. If the presentation occurred, Prime NDT will also include with the letter a copy of any presentation materials (i.e., slides). If the ASNT denies the request, Prime NDT will describe in the letter the reason provided by ASNT for the denial.

3. Within 360 days of the date of issuance of the Confirmatory Order, Prime NDT will offer to provide a presentation based on the summary described in Section D.1 to the Operating Engineers Local 112 Union. The presentation is intended to occur during an annual meeting or similar, widely-attended event. Prime NDT will inform the NRC whether the presentation occurred by sending a letter to the Region I Administrator within 30 days of completing the presentation, and will include a copy of any presentation materials (i.e., slides) in the letter. If the union denies the request, Prime NDT will inform the NRC by sending a letter to the Region I Administrator within 30 days of the denial and will describe in the letter the reason provided by the union for the denial.

E. Civil Penalty:

Within 30 days of the date of issuance of the Confirmatory Order, Prime NDT will pay a civil penalty of $3500, utilizing one of the payment methods described in NUREG/BR-0254, “Payment Methods.”

This agreement is binding upon successors and assigns of Prime NDT. The Regional Administrator, Region I may, in writing, relax or rescind any of the above conditions upon demonstration by Prime NDT or its successors of good cause.

VI

In accordance with 10 CFR 2.202 and 10 CFR 2.309, any person adversely affected by this Confirmatory Order, other than Prime NDT, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public Web site at http://www.nrc.gov/site-help/e-submittals.html, by e-mail to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person (other than Prime NDT) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission.

/RA/

Raymond K. Lorson,

Deputy Regional Administrator, NRC Region I.

Dated this 1st day of April 2019.

[FR Doc. 2019-06897 Filed 4-5-19; 8:45 am]

BILLING CODE 7590-01-P